NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by September 25, 2023. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Andrew Titmus, ACA Permit Officer, Office of Polar Programs, National Science Foundation, 2415 Eisenhower Avenue, Alexandria, VA 22314; 703-292-4479; or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (ACA 2022-013) to Lisa Bolton, Scenic USA on November 12, 2021. The issued permit allows the applicant to conduct waste management activities associated with operating remotely piloted aircraft systems (RPAS) and helicopters. The permit holder may operate small battery operated RPAS to capture aerial footage for commercial, educational, and safety uses. The permit holder may also operate two helicopters for sightseeing in the Antarctic Peninsula region.

Now the applicant proposes a modification to the permit to increase the number of helicopters to four helicopters, two on each ship, and to allow those helicopters to make landings for sightseeing purposes. The name of the permit holder is also proposed to be changed to Jason Flesher, Scenic USA.

Location: Antarctic Peninsula region.

Dates: September 15, 2023 to March 31, 2026.

Kimiko S. Bowens-Knox,
Program Analyst, Office of Polar Programs.

[FR Doc. 2023-17498 Filed 8-24-23; 8:45 am]

BILLING CODE 7555-01-P